TENNESSEE VALLEY AUTHORITY

Notice of Publication of Final Report Implementing Guidelines for Ensuring and Maximizing the Quality, Objectivity, Utility and Integrity of Information Disseminated by Federal Agencies

AGENCY: Tennessee Valley Authority.

ACTION: Notice of publication of final report.

SUMMARY: On September 28, 2001 the Office of Management and Budget published Guidelines for Ensuring and Maximizing the Quality, Objectivity, Utility and Integrity of Information Disseminated by Federal Agencies. In response to those guidelines, the Tennessee Valley Authority (TVA) has posted a final report setting forth its information quality guidelines on its Web site at www.tva.gov/infoquality.

(Authority: Section 515, Pub. L. 106-554, 66 FR 49718 (Sept. 28, 2001))

DATES: Effective Date: October 1, 2002.

FOR FURTHER INFORMATION CONTACT: Robin Robinson, Information Quality Officer, 400 West Summit Hill Drive, ET 5D-K, Knoxville, Tennessee 37902. Telephone 865-632-7119.

Dated: September 23, 2002.
Diane J. Bunch,
Chief Information Officer.

[FR Doc. 02-25262 Filed 10-3-02; 8:45 am]

BILLING CODE 8120-08-M